DEPARTMENT OF AGRICULTURE

Animal and Plant Health Inspection Service

7 CFR Part 301

[Docket No. 00-009-2]

Pink Bollworm Regulated Areas

AGENCY: Animal and Plant Health Inspection Service, USDA.

ACTION: Affirmation of interim rule as final rule.

SUMMARY: We are adopting as a final rule, without change, an interim rule that amended the pink bollworm regulations by removing the previously regulated area in Poinsett County, AR, from the list of suppressive areas for pink bollworm and by removing Arkansas from the list of States quarantined because of the pink bollworm. We took that action because trapping surveys showed that the pink bollworm no longer exists in this area, which was the only area in the State regulated because of pink bollworm. The interim rule relieved unnecessary restrictions on the interstate movement of regulated articles from the previously regulated area.

EFFECTIVE DATE: The interim rule became effective on March 2, 2000.

FOR FURTHER INFORMATION CONTACT: Mr. Bill Grefenstette, Assistant Director, Plant Health Programs, PPQ, APHIS, 4700 River Road Unit 138, Riverdale, MD 20737-1236; (301) 734-8676.

SUPPLEMENTARY INFORMATION:

Background

In an interim rule effective and published in the Federal Register on March 2, 2000 (65 FR 11203-11204, Docket No. 00-009-1), we amended the pink bollworm regulations in 7 CFR part 301 by removing the previously regulated area in Poinsett County, AR, from the list of suppressive areas for pink bollworm. We also removed Arkansas from the list of States quarantined because of the pink bollworm.

Comments on the interim rule were required to be received on or before May 1, 2000. We did not receive any comments. Therefore, for the reasons given in the interim rule, we are adopting the interim rule as a final rule.

This action also affirms the information contained in the interim rule concerning Executive Orders 12866, 12372, and 12988, and the Paperwork Reduction Act.

Further, for this action, the Office of Management and Budget has waived the review process required by Executive Order 12866.

Regulatory Flexibility Act

This rule affirms an interim rule that amended the regulations by removing the previously regulated area in Poinsett County, AR, from the list of suppressive areas for pink bollworm and by removing Arkansas from the list of States quarantined because of the pink bollworm. We took that action because trapping surveys showed that the pink bollworm no longer exists in this area, which was the only area in the State regulated because of pink bollworm. The interim rule relieved unnecessary restrictions on the interstate movement of regulated articles from the previously regulated area.

The following analysis addresses the economic effect of this rule on small entities, as required by the Regulatory Flexibility Act.

Entities affected by this rule could be cotton and cottonseed farms, cotton harvesting businesses, cotton gins, cottonseed oil mills, and wholesale cotton merchants operating in the previously regulated area. Affected gins and growers no longer need to acquire a certificate or permit to move their cotton or cottonseed from the area. Other items that no longer require certificates or permits before movement include bags, harvesting equipment, cotton refuse, trucks, and trailers.

In 1997, when the area of Poinsett County affected by this rulemaking was listed as a suppressive area for pink bollworm, we determined that there were 4 cotton growers in the area who produced about 1,880 bales of cotton and 750 tons of cottonseed in 1995. Additionally, one cotton gin, two equipment companies, two transport companies, and one oil mill were identified as potentially affected small entities in the regulated area. In all cases, the economic effect of regulating the area was expected to be minimal because of the availability of treatments.

Affected entities are likely to receive some small benefit from our removing restrictions related to pink bollworm. From 1997 to 1999, the average price of cotton was about $296 per bale. The treatment cost for pink bollworm in 1997 ranged from $.64 to $2.47 per bale of cotton. Even if the average treatment price of $2.06 per bale had increased by 40 percent in the last 3 years, it would still represent less than 1 percent of the price of cotton. Similarly, for cottonseed, if the average 1997 treatment price of $.135 per bushel had increased by 20 percent in the last 3 years, it would still represent only about 1 percent of the price of cottonseed. The 10 affected entities in Poinsett County do not represent a substantial number of small entities given the tens of thousands of cotton producers and related businesses operating in the United States. Further, any economic effect of the rule on these entities is expected to be insignificant, given that the treatment costs are less than 1 percent of the value of the cotton and the cottonseed, and positive.

Under these circumstances, the Administrator of the Animal and Plant Health Inspection Service has determined that this action will not have a significant economic impact on a substantial number of small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 11203-11204 on March 2, 2000.

Authority: Title IV, Pub. L. 106-224, 114 Stat. 438, 7 U.S.C. 7701-7772; 7 CFR 2.22, 2.80, and 371.3.

Done in Washington, DC, this 31st day of August 2000.
Bobby R. Acord,
Acting Administrator, Animal and Plant Health Inspection Service.

[FR Doc. 00-22965 Filed 9-6-00; 8:45 am]

BILLING CODE 3410-34-U